DEPARTMENT OF COMMERCE

International Trade Administration

[C-570-959]

Certain Coated Paper Suitable for High-Quality Print Graphics Using Sheet-Fed Presses from the People's Republic of China: Postponement of Preliminary Determination in the Countervailing Duty Investigation

AGENCY: Import Administration, International Trade Administration, Department of Commerce.

DATES: Effective Date: December 8, 2009.

FOR FURTHER INFORMATION CONTACT: David Neubacher, Jennifer Meek or Mary Kolberg, AD/CVD Operations, Import Administration, International Trade Administration, U.S. Department of Commerce, 14th Street and Constitution Avenue, NW, Washington, DC 20230; telephone: (202) 482-5823, (202) 482-2778 and (202) 482-1785 respectively.

SUPPLEMENTARY INFORMATION:

Background

On October 13, 2009, the Department of Commerce (the “Department”) initiated a countervailing duty investigation of certain coated paper suitable for high-quality print graphics using sheet-fed presses (“certain coated paper”) from the People's Republic of China (“PRC”). See Certain Coated Paper Suitable for High-Quality Print Graphics Using Sheet-Fed Presses from the People's Republic of China: Initiation of Countervailing Duty Investigation, 74 FR 53703 (October 20, 2009). Currently, the preliminary determination is due no later than December 17, 2009.

Postponement of Due Date for Preliminary Determination

On November 19, 2009, the Department received a request from Appleton Coated LLC, NewPage Corporation, S.D. Warren Company d/b/a Sappi Fine Paper North America, and the United Steel, Paper and Forestry, Rubber, Manufacturing, Energy, Allied Industrial and Service Workers International Union (collectively, “Petitioners”) to postpone the preliminary determination of the countervailing duty investigation of certain coated paper from the PRC. Under section 703(c)(1)(A) of the Tariff Act of 1930, as amended (“the Act”), the Department may extend the period for reaching a preliminary determination in a countervailing duty investigation until no later than the 130th day after the date on which the administering authority initiates an investigation if the petitioner makes a timely request. In accordance with 19 CFR 351.205(e), Petitioners' request for postponement of the preliminary determination was made 25 days or more before the scheduled date of the preliminary determination. Thus, we are fully extending the due date for the preliminary determination to no later than 130 days after the day on which the investigation was initiated (i.e., February 20, 2010). However, February 20, 2010, falls on a Saturday and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary determination is now no later than February 22, 2010.

This notice is issued and published pursuant to section 703(c)(2) of the Act and 19 CFR 351.205(e).

Dated: November 25, 2009.
Ronald K. Lorentzen,
Deputy Assistant Secretary for Import Administration.

[FR Doc. E9-29243 Filed 12-7-09; 8:45 am]

BILLING CODE 3510-DS-S